FEDERAL RESERVE SYSTEM

Change in Bank Control Notices; Acquisition of Shares of Bank or Bank Holding Companies

The notificants listed below have applied under the Change in Bank Control Act (12 U.S.C. 1817(j)) and § 225.41 of the Board’s Regulation Y (12 CFR 225.41) to acquire a bank or bank holding company. The factors that are considered in acting on the notices are set forth in paragraph 7 of the Act (12 U.S.C. 1817(j)(7)).

The notices are available for immediate inspection at the Federal Reserve Bank indicated. The notices also will be available for inspection at the office of the Board of Governors. Interested persons may express their views in writing to the Reserve Bank indicated for that notice or to the offices of the Board of Governors. Comments must be received not later than May 11, 2010.

A. Federal Reserve Bank of New York (Ivan Hurwitz, Vice President) 33 Liberty Street, New York, New York 10045-0001:

1. GAP V Bankvest, LLC; Greenfield Acquisition Company V, LLC; Greenfield Acquisition Partners V, LP; GAP V Management, LLC; Greenfield Partners, LLC, all of South Norwalk, Connecticut; and Eugene A. Gorab, Fairfield, Connecticut; to gain control of Alcar LLC, New York, New York, and thereby indirectly acquire control of Darien Rowayton Bank, Darien, Connecticut.

B. Federal Reserve Bank of Philadelphia (Michael E. Collins, Senior Vice President) 100 North 6th Street, Philadelphia, Pennsylvania 19105-1521:

1. Patriot Financial Partners, GP, L.P.; Patriot Financial Partners, L.P.; Patriot Financial Partners Parallel, L.P.; Patriot Financial Partners, GP, LLC; Patriot Financial Managers, L.P.; and Ira M. Lubert; W. Kirk Wycoff; and James J. Lynch, all of Philadelphia, Pennsylvania, to acquire voting shares of Florida Business Bancgroup, Inc., and thereby indirectly acquire voting shares of Bay Cities Bank, both of Tampa, Florida.

C. Federal Reserve Bank of Richmond (A. Linwood Gill, III, Vice President) 701 East Byrd Street, Richmond, Virginia 23261-4528:

1. Irving Schwarzbaum, West Orange, New Jersey, individually and as a member of a group comprised of Elisa Schwarzbaum, West Orange, New Jersey; Michelle Schwarzbaum, West Orange, New Jersey; Shelly Schwarzbaum, Rehovot, Israel; David Schwarzbaum, Rehovot, Israel; Arye Schwarzbaum, Rehovot, Israel; Yair Schwarzbaum, Rehovot, Israel; Henry Schwarzbaum, Rehovot, Israel; and Leonard Schwarzbaum, Scarsdale, New York, acting in concert, to acquire voting shares of First Mariner Bancorp, and thereby indirectly acquire voting shares of First Mariner Bank, both of Baltimore, Maryland.

Board of Governors of the Federal Reserve System, April 21, 2010.
Jennifer J. Johnson,
Secretary of the Board.

[FR Doc. 2010-9593 Filed 4-23-10; 8:45 am]

BILLING CODE 6210-01-S